DEPARTMENT OF TRANSPORTATION

Federal Aviation Administration

Proposed Advisory Circular 183-35K, Airworthiness Designee Information

AGENCY: Federal Aviation Administration (FAA), DOT.

ACTION: Notice of availability of proposed advisory circular AC 183-35K, and request for comments.

SUMMARY: This notice announces the availability of and requests comments on a proposed advisory circular, Advisory Circular (AC) 183-35K, Airworthiness Designee Information, that announces a new Function Code 49, Aging Airplane: Inspection and Records Review. Function Code 49 will allow a Designated Airworthiness Representative (DAR) or the Organizational Designated Representative (ODAR) to conduct “* * * structural spot inspections and focused records reviews. * * *” required by the Aging Airplane Safety Rules (14 CFR parts 121, 129, and 135, sections 121.368, 129.33, 135.422, or 135.423). (For more information regarding Function Code 49, see the paragraph entitled “Qualifications.”) This AC also provides information regarding Internet access for FAA directives, a designee directory, and the Designee Web Site. This AC also provides guidance concerning designee application, authorized functions, and initial and subsequent certificates of authority for Designated Manufacturing Inspection Representatives (DMIR), Designated Airworthiness Representatives (DAR), Organizational Designated Airworthiness Representatives (ODAR), Data Management Designated Airworthiness Representatives (MDAR), Designated Alteration Stations (DAS), manufacturing organizations with a Delegation Option Authorization (DOA), and organizations authorized under the provisions of Special Federal Aviation Regulations (SFAR) No. 36.

Qualifications

DAR and ODAR applicants must meet applicable general and specialized experience listed below.

General Requirements

a. Applicants must be proficient in and have current and thorough working knowledge of Title 14 of the Code of Federal Regulations (14 CFRs), FAA Directives, and other related materials.

b. Applicants must have unquestionable integrity, a cooperative attitude, and the ability to exercise sound judgment.

c. Applicants must have the ability to maintain the highest degree of objectivity while performing authorized functions on behalf of the FAA.

d. These applicants must have 5 years of experience as a quality auditor involved in airplane structural inspections and records review.

e. A good command of the English language, both oral and written is required.

f. Applicants applying for this new function code must be thoroughly familiar with the appropriate chapters of FAA Order 8300.10, Airworthiness Inspectors Handbook, and have satisfactorily completed on-the-job training from the local Certificate Holding Office.

g. Selected applicants must have specific knowledge in airplane structures and airplane corrosion. Other training will be required through the FAA Directives system as determined by the Administrator.

Specialized Requirements

A DAR or ODAR applicant for the Aging Airplane: Inspection and Review function code 49 must meet the following specialized experience. Individuals who are to perform authorized functions under an ODAR need only meet the specialized experience required for the specific function to be performed.

DAR Applicants

(1) DAR applicants must have 5 years of Structural Spot Inspection and Air-Carrier Records Review experience as an FAA airworthiness maintenance inspector. These applicants must have experience on the same type and complexity of airplane for which the authorization is sought, a current airman certificate with both Airframe and Powerplant ratings, or

(2) The applicants must possess advanced airplane maintenance experience at the level of supervisor/lead in structural inspections and airplane records review leading to an “approval for return to service.” (Examples would include Chief Inspector or Director of Maintenance at an FAA-approved repair station or at the facility of the holder of an air-carrier certificate.) The applicant must hold a current airman certificate with Airframe and Powerplant ratings or an appropriate repairman's certificate with the proper qualifications and skills, and the ability to determine maintenance, repairs, alterations, and operational checks on airplanes are in accordance with FAA regulations.

ODAR Applicants

An ODAR applicant must be:

(1) The holder of a Certified Repair Station under part 145 with the appropriate class ratings, or

(2) An air-carrier certified under parts 121, 129, or 135. Both must have person(s) certificated under part 65 in its employ that meet the qualifications specified in paragraphs “a.” through “g.” under General Requirements. The collective technical and management experience of the authorized representatives must pertain to the type of authorizations sought.

DATES: Comments must be received on or before December 1, 2003.

ADDRESSES: If possible, please submit your comments electronically to John M Rice/AMC/FAA. Otherwise, send all comments on the proposed AC to: FAA, Attention: Mr. John M. Rice, AFS-640, P.O. Box 25082, Oklahoma City, OK 73125. Comments may be inspected at the above address between 7:30 and 4 p.m. weekdays, except Federal holidays. All comments should contain the name and telephone number of the individual or company making the comment, the paragraph and page number that the comment references, the reason for comment, and the recommended resolution.

FOR FURTHER INFORMATION CONTACT: FAA, Attention: Mr. John M. Rice, AFS-640, PO Box 25082, Oklahoma City, OK 73125, telephone (405) 954-6484, fax: (405) 954-4748.

SUPPLEMENTARY INFORMATION: Interested persons are invited to comment on the proposed AC by submitting such written data, views, or arguments as they may desire. Commenters should identify AC 183-35K and submit comments, in duplicate, to the address specified above. All communications received on or before the closing data for comments will be considered by the Regulatory Support Division before issuing the final AC. The proposed AC can be found and downloaded from the Internet at http://av-info.faa.gov/dst/reference.htm and taking the following steps: Select “Advisory Circulars,” next scroll down to and select “Draft AC 183-35K.” A paper copy of the proposed AC may be obtained by contacting the person named above under the caption FOR FURTHER INFORMATION CONTACT.

Issued in Oklahoma City, Oklahoma, on November 12, 2003.
Joseph K. Tintera,
Manager, Regulatory Support Division.

[FR Doc. 03-28819 Filed 11-18-03; 8:45 am]

BILLING CODE 4910-13-P